ENVIRONMENTAL PROTECTION AGENCY

[ER-FRL-9003-2]

Environmental Impacts Statements; Notice of Availability

Responsible Agency: Office of Federal Activities, General Information (202) 564-7146 or http://www.epa.gov/compliance/nepa/.

Weekly receipt of Environmental Impact Statements

Filed 05/14/2012 Through 05/18/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120157, Final EIS, FTA, GA, Tier 1—Atlanta Beltline City of Atlanta, Proposed Fixed Guideway Transit and Multi-Use Trails System, Right-of-Way Preservation, Fulton County, GA, Review Period Ends: 06/25/2012, Contact: Brian Smart 404-865-5600.

EIS No. 20120158, Draft EIS, USACE, NC, Figure Eight Island Inlet and Shoreline Management Project, Terminal Groin Installation and Supplemental Beach Nourishment, Implementation, New Hanover County, NC, Comment Period Ends: 07/09/2012, Contact: Mickey Sugg 910-251-4811.

EIS No. 20120159, Draft EIS, EPA, FL, Jacksonville Ocean Dredged Material Disposal Site (ODMDS) Designation, Offshore of Jacksonville, FL, Comment Period Ends: 07/09/2012, Contact: Jennifer S. Derby 404-562-9401.

EIS No. 20120160, Draft EIS, USFS, CO, Federal Coal Lease Modifications COC-1362 and COC 67232, Adding 800 and 921 Additional Acres, Paonia Ranger District, Grand Mesa, Uncompahgre and Gunnison National Forests, Gunnison County, CO, Comment Period Ends: 07/09/2012, Contact: Nicole Mortenson 406-329-3163.

EIS No. 20120161, Draft EIS, USFS, NM, North Fork Eagle Creek Wells, Special Use Authorization Project, Operation of Four Municipal Supply Water Wells, Lincoln National Forest, Lincoln County, NM, Comment Period Ends: 07/09/2012, Contact: Deborah McGlothlin 559-920-4952.

EIS No. 20120162, Final Supplement, NOAA, CA, Southwest Fisheries Science Center Demolition, Soil Stabilization and Seismic Improvements, La Jolla, CA, Review Period Ends: 06/25/2012, Contact: Edward Horton 206-526-4837.

EIS No. 20120163, Draft EIS, BLM, NM, AZ, SunZia Southwest Transmission Project, Resource Management Plan Amendment, Construction and Operation of two new 500 kV Transmission Lines, Right-of-Way Grant, Lincoln County, NM and Pinal County, AZ, Comment Period Ends: 08/22/2012, Contact: Adrian Garcia 505-954-2199.

EIS No. 20120164, Draft EIS, BLM, CA, McCoy Solar Energy Project, Development of up to 750-megawatt (mw) Solar Energy Plant, Right-of-Way Grant, Riverside County, CA, Comment Period Ends: 08/22/2012, Contact: Jeff Childers 760-833-7100.

Amended Notices

EIS No. 20120098, Draft EIS, USAF, 00, F-35A Operational Basing, Beddown and Operation of F-35A Aircraft for the Combat Air Forces at One or More Locations throughout the Contiguous U.S. from 2015 through 2020, Comment Period Ends: 06/20/2012, Contact: Nicholas Germanos 757-764-5994.

Revision to FR Notice Published 4/20/2012; Change Comment Period Due Date from 06/01/2012 to 06/20/2012.

Dated: May 22, 2012.
Cliff Rader,
Director, NEPA Compliance Division, Office of Federal Activities.

[FR Doc. 2012-12809 Filed 5-24-12; 8:45 am]

BILLING CODE 6560-50-P